DEPARTMENT OF TRANSPORTATION

Federal Aviation Administration

14 CFR Part 71

[Docket No. FAA-2022-1678; Airspace Docket No. 22-AWA-4]

RIN 2120-AA66

Amendment of the Nashville International Airport Class C Airspace; Nashville, TN; and the John C. Tune Airport Class D Airspace; Nashville, TN

AGENCY: Federal Aviation Administration (FAA), DOT.

ACTION: Final rule.

SUMMARY: This action reconfigures the Nashville International Airport (BNA) Class C airspace area and amends the ceiling of the John C. Tune Airport (JWN) Class D airspace area. The FAA is taking this action to reduce the risk of midair collisions and enhance the efficient management of air traffic operations in the Nashville, TN, terminal area.

DATES: Effective date 0901 UTC, August 10, 2023. The Director of the Federal Register approves this incorporation by reference action under 1 CFR part 51, subject to the annual revision of FAA Order JO 7400.11 and publication of conforming amendments.

ADDRESSES: A copy of the Notice of Proposed Rulemaking (NPRM), all comments received, this final rule, and all background material may be viewed online at www.regulations.gov using the FAA Docket number. Electronic retrieval help and guidelines are available on the website. It is available 24 hours each day, 365 days each year.

FAA Order JO 7400.11G, Airspace Designations and Reporting Points, and subsequent amendments can be viewed online at www.faa.gov/air_traffic/publications/. You may also contact the Rules and Regulations Group, Office of Policy, Federal Aviation Administration, 800 Independence Avenue SW, Washington, DC 20591; telephone: (202) 267-8783.

FOR FURTHER INFORMATION CONTACT: Paul Gallant, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it amends the Nashville, TN, Class C airspace area, and the John C. Tune Airport Class D airspace area as necessary to enhance aviation safety in the Nashville terminal area.

History

The FAA published a NPRM for Docket No. FAA-2022-1678, in the Federal Register (88 FR 5283; January 27, 2023), proposing to amend the Nashville, TN, Class C airspace area, and the John C. Tune Class D airspace area. Interested parties were invited to participate in this rulemaking effort by submitting written comments on the proposal. Twenty-five comments were received.

Discussion of Comments

One commenter wrote that BNA should be upgraded to a Class B airspace area, while two commenters were not in favor of Class B airspace at BNA. The NPRM proposed modifications to the existing Class C airspace area at BNA. Class B airspace at BNA is not being proposed, therefore it is outside the scope of this rulemaking action. While BNA currently meets the Class B enplaned passenger count criteria, at this time, it does not meet the total airport operations criteria to be considered as a candidate for a Class B airspace designation.

The majority of the comments concerned the impacts of the proposed lateral and vertical boundaries of the BNA Class C 15 nautical miles (NM) eastern outer ring on aircraft arriving at Lebanon Municipal Airport (M54). The 15 NM ring moves the Class C boundary to a point approximately 3 NM west of M54. Commenters wrote that M54 needs more space to maneuver. They stated that, when the wind is from the north, aircraft entering the traffic pattern for runway 01 at M54 would be concentrated into the already congested area west of M54 between the airport, and the eastern 15 NM ring of Class C airspace. As a result, pilots would be focusing on remaining clear of the Class C airspace while either just transiting northbound or southbound through the area or entering the traffic pattern downwind leg to land on runway 01 at M54. This could lead to unintended incursions into the Class C airspace.

The commenters made several suggestions for alleviating these concerns, including:

• Raising the floor in a portion of the eastern outer ring of the Class C airspace (e.g., from the 060° bearing from BNA, clockwise to the 155° bearing from BNA, etc.) from 2,400 feet mean sea level (MSL) to 2,600 feet MSL, which would be 1,000 feet above M54's traffic pattern altitude.

• Adding a cutout from the Class C within a 5 NM radius of M54.

• Moving the 15 NM outer east ring boundary westward, farther away from M54. One commenter suggested aligning the east ring boundary along Interstate I-840 and Highway 109 providing a visual landmark to define the boundary.

The FAA considered the commenters' suggestions; however, each suggestion would result in reduced Class C airspace in areas where airspace control and communications between air traffic control (ATC) and all aircraft is warranted. Class C airspace is designed to keep ATC informed of all aircraft operating within the Class C area. This is important so that air traffic controllers are aware of all pilots' intentions. Heading and/or altitude changes made by unidentified, non-participating pilots are unpredictable, which may require controllers to take preventative action to avoid potential conflicts with other aircraft that are under their control. Such circumstances may disrupt the orderly flow of arrivals and departures as well as increase controller workload.

Regarding the suggestion to raise the east outer ring floor to 2,600-foot MSL, the purpose of setting the east outer ring floor at 2,400 feet MSL is to allow ATC to provide needed separation between all Instrument Flight Rules (IFR) aircraft landing on runway 19 at Smyrna Airport (MQY), and non-participating Visual Flight Rules (VFR) aircraft. Aircraft flying the published instrument approach to MQY runway 19 cross the WULIG waypoint (WP) (located approximately 11 NM northeast of MQY) at 3,000 feet MSL. As MQY traffic volume continues to increase, aircraft are being sequenced at or before the WULIG WP on the runway 19 instrument approach. Raising the outer ring floor to 2,600 feet MSL reduces effective separation outside of WULIG and increases the likelihood of Traffic Alert and Collision Avoidance System (TCAS) Resolution Advisory (RA) events for inbound aircraft.

Regarding the suggestions to move the eastern ring boundary westward, away from M54, the FAA is unable to adopt the suggestions. When aircraft are arriving and departing BNA to the north, numerous aircraft depart from runway 02R on a noise abatement heading of 055°. BNA departures are vectored into the eastern ring area to remain clear of BNA arrivals that are descending on the PASLY Standard Terminal Arrival (STAR). Currently, to clear aircraft on the STAR, BNA departure traffic must remain at 4,000 feet MSL. Additionally, the volume of pilot training traffic generated by flight schools operating in this area from airports east of BNA, including M54, MQY, and Murfreesboro Municipal (MBT), underscores the need for expanded Class C airspace in the east outer ring out to 15 NM.

Several commenters expressed concerns regarding controller staffing levels at BNA Terminal Radar Approach Control (TRACON) in light of increasing traffic volume and controller workload. The FAA will continue to provide VFR flight following services as duty priorities allow. A larger area of controlled airspace will significantly increase safety for all users but may result in increased demand for air traffic services.

Incorporation by Reference

Class C airspace areas are published in paragraph 4000, and Class D airspace areas are published in paragraph 5000, of FAA Order JO 7400.11, Airspace Designations and Reporting Points, which is incorporated by reference in 14 CFR 71.1 on an annual basis. This document amends the current version of that order, FAA Order JO 7400.11G dated August 19, 2022, and effective September 15, 2022. FAA Order JO 7400.11G is publicly available as listed in the ADDRESSSES section of this document. These amendments will be published in the next update to FAA Order JO 7400.11.

FAA Order JO 7400.11G lists Class A, B, C, D, and E airspace areas, air traffic service routes, and reporting points.

The Rule

This action amends 14 CFR part by expanding the BNA Class C airspace area and lowering the ceiling of the JWN Class D airspace area (see the attached chart).

This action makes minor edits in the text header of the BNA Class C airspace description, as published in FAA Order JO 7400.11, by updating the BNA airport reference point (ARP) coordinates from “lat. 36°07′28″ N, long. 86°40′42″ W” to “lat. 36°07′28″ N, long. 86°40′41″ W” This reflects the latest information in the Airport Master Records file. In addition, the Smyrna Airport, TN (MQY), is added to the text header because that airport is referenced in the Class C description. The Class C modifications are described below.

This action raises the BNA Class C airspace area ceiling from 4,600 feet MSL up to and including 6,000 feet MSL and extends the outer ring of the Class C airspace area from the current 10 NM radius from BNA to the 15 NM radius from BNA.

Additionally, the Class C surface area radius is extended from the current 5 NM radius from BNA to the 7 NM radius from BNA, starting from the 335° bearing from the airport, clockwise to the 230° bearing from the airport. However, the surface area radius remains at 5 NM from BNA from the 230° bearing, clockwise to the 335° bearing from the airport. The Class C surface area also excludes that portion of airspace that is within the Smyrna Airport Class D airspace area. The BNA Class C airspace also includes:

• That airspace extending upward from 1,800 feet MSL to 6,000 feet MSL within a 15-mile radius of Nashville International Airport from the 335° bearing from the airport clockwise to the 060° bearing from the airport;

• That airspace extending upward from 2,400 feet MSL to 6,000 feet MSL within a 15-mile radius of the airport from the 060° bearing from the airport clockwise to the 155° bearing from the airport, excluding that portion within the Smyrna Airport, TN, Class D airspace area;

• That airspace extending upward from 1,800 feet MSL to 6,000 feet MSL within a 15-mile radius of Nashville International Airport from the 155° bearing from the airport clockwise to the 230° bearing from the airport; and

• That airspace extending upward from 2,400 feet MSL to 6,000 feet MSL within a 15-mile radius of Nashville International Airport from the 230° bearing from the airport clockwise to the 335° bearing from the airport.

This action also amends the John C. Tune Airport (JWN) Class D airspace area by replacing the current 2,500-foot MSL ceiling with “to but not including 2,400 feet MSL.” The westward expansion of the BNA Class C airspace, with a floor of 2,400 feet MSL, overlies the JWN Class D airspace. Lowering the JWN Class D ceiling as described creates a clearer delineation between the Class C and Class D airspace areas, thus reducing the potential for pilot confusion over the airspace status.

Annual air traffic volume in BNA TRACON's area has increased by 49.2% since 2015, including significant volume increases at M54, JWN, MQY, and BNA airports. Due to the continuing rise in traffic, the predictability resulting from the BNA Class C airspace modification is needed to provide a safe and stable environment for arrivals and departures at BNA as well as the surrounding airports.

This rulemaking action is required to reduce the risk of midair collisions and enhance the efficient management of air traffic operations in the Nashville, TN, terminal area.

Regulatory Impact Analysis

Federal agencies consider impacts of regulatory actions under a variety of executive orders and other requirements. First, Executive Order 12866 and Executive Order 13563 direct that each Federal agency shall propose or adopt a regulation only upon a reasoned determination that the benefits of the intended regulation justify the costs. Second, the Regulatory Flexibility Act of 1980 (Pub. L. 96-354) requires agencies to analyze the economic impact of regulatory changes on small entities. Third, the Trade Agreements Act (Pub. L. 96-39) prohibits agencies from setting standards that create unnecessary obstacles to the foreign commerce of the United States. Fourth, the Unfunded Mandates Reform Act of 1995 (Pub. L. 104-4) requires agencies to prepare a written assessment of the costs, benefits, and other effects of proposed or final rules that include a Federal mandate that may result in the expenditure by State, local, and tribal governments, in the aggregate, or by the private sector, of $100,000,000 or more (adjusted annually for inflation) in any one year. The current threshold after adjustment for inflation is $177 million using the most current (2022) Implicit Price Deflator for the Gross Domestic Product. This portion of the preamble summarizes the FAA's analysis of the economic impacts of this rule.

In conducting these analyses, the FAA has determined that this rule: will have a minimal cost impact; is not a “significant regulatory action” as defined in section 3(f) of Executive Order 12866; will not have a significant economic impact on a substantial number of small entities; will not create unnecessary obstacles to the foreign commerce of the United States; and will not impose an unfunded mandate on State, local, or tribal governments, or on the private sector.

As discussed above, the FAA determined that changes put forth in this final rule will reduce the risk of midair collisions, efficiency, and airspace utilization. The final rule reconfigures BNA Class C airspace area and amends the ceiling of JWN Class D airspace area. Operations at BNA are rebounding from the drop in traffic that resulted during the Coronavirus disease (COVID-19) pandemic. In addition, air traffic in the Nashville terminal area has increased dramatically in all categories of aircraft. The existing Class C airspace no longer meets the needs of air traffic control and enhanced safety in the BNA terminal area. The goals of the final rule are to reduce the risk of midair collisions and improve the efficient management of air traffic operations in the Nashville, TN, terminal area.

The final rule modifies the BNA Class C airspace area and requires VFR aircraft to establish radio contact with ATC thereby enhancing safety and efficiency in the BNA terminal area. VFR operators only needs to make minor adjustments to accommodate the expanded availability of Class C services around BNA. Therefore, the FAA expects the final rule will result in minimal cost to VFR operators.

Regulatory Flexibility Act

The Regulatory Flexibility Act of 1980 (Pub. L. 96-354) (RFA) establishes “as a principle of regulatory issuance that agencies shall endeavor, consistent with the objectives of the rule and of applicable statutes, to fit regulatory and informational requirements to the scale of the businesses, organizations, and governmental jurisdictions subject to regulation.” To achieve this principle, agencies are required to solicit and consider flexible regulatory proposals and to explain the rationale for their actions to assure that such proposals are given serious consideration.” The RFA covers a wide range of small entities, including small businesses, not-for-profit organizations, and small governmental jurisdictions.

Agencies must perform a review to determine whether a rule will have a significant economic impact on a substantial number of small entities. If the agency determines that it will, the agency must prepare a regulatory flexibility analysis as described in the RFA. However, if an agency determines that a rule is not expected to have a significant economic impact on a substantial number of small entities, section 605(b) of the RFA provides that the head of the agency may so certify, and a regulatory flexibility analysis is not required. The certification must include a statement providing the factual basis for this determination, and the reasoning should be clear.

The final rule reconfigures BNA Class C airspace area and amends the ceiling JWN Class D airspace area. The FAA is taking this action to reduce the risk of midair collisions and enhance the efficient management of air traffic operations in the Nashville, TN, terminal area. The FAA determined that changes put forth in this rule increase airspace safety and efficiency.

The change affects general aviation operators using BNA Class C airspace area and amends the ceiling JWN Class D airspace area. Operators flying VFR needs to adjust their flight paths to avoid the modified Class C airspace and Class D airspace if the pilots wish to operate without contacting ATC. However, the modifications are intended to address the concerns raised by air traffic without being burdensome. Therefore, as provided in section 605(b), the head of the FAA certifies that this rulemaking will not result in a significant economic impact on a substantial number of small entities.

International Trade Impact Assessment

The Trade Agreements Act of 1979 (Pub. L. 96-39), as amended by the Uruguay Round Agreements Act (Pub. L. 103-465), prohibits Federal agencies from establishing standards or engaging in related activities that create unnecessary obstacles to the foreign commerce of the United States. Pursuant to these Acts, the establishment of standards is not considered an unnecessary obstacle to the foreign commerce of the United States, so long as the standard has a legitimate domestic objective, such as the protection of safety, and does not operate in a manner that excludes imports that meet this objective. The statute also requires consideration of international standards and, where appropriate, that they be the basis for U.S. standards. The FAA has assessed the potential effect of this final rule and determined that it should improve safety and is consistent with the Trade Agreements Act. The FAA has assessed the potential effect of this final rule and determined that it would improve safety and is consistent with the Trade Agreements Act.

Unfunded Mandates Assessment

The Unfunded Mandates Reform Act of 1995 (2 U.S.C. 1531-1538) governs the issuance of Federal regulations that require unfunded mandates. An unfunded mandate is a regulation that requires a state, local, or tribal government or the private sector to incur direct costs without the Federal government having first provided the funds to pay those costs. The FAA determined that the final rule will not result in the expenditure of $177 million or more by State, local, or tribal governments, in the aggregate, or the private sector, in any one year. This final rule does not contain such a mandate; therefore, the Act does not apply.

Paperwork Reduction Act

The Paperwork Reduction Act of 1995 (44 U.S.C. 3507(d)) requires that the FAA consider the impact of paperwork and other information collection burdens imposed on the public. The FAA has determined that there is no new information collection requirement associated with this final rule.

Environmental Review

The FAA has determined that this action of reconfiguring the existing Nashville International Airport (BNA) Class C area and amending the ceiling of the John C. Tune Airport (JWN) Class D airspace area in Nashville, TN, qualifies for categorical exclusion under the National Environmental Policy Act (42 U.S.C. 4321 et seq.) and its implementing regulations at 40 CFR part 1500, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points). As such, this action is not expected to result in any potentially significant environmental impacts. In accordance with FAA Order 1050.1F, paragraph 5-2 regarding Extraordinary Circumstances, the FAA has reviewed this action for factors and circumstances in which a normally categorically excluded action may have a significant environmental impact requiring further analysis. Accordingly, the FAA has determined that no extraordinary circumstances exist that warrant preparation of an environmental assessment or environmental impact study.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11G, Airspace Designations and Reporting Points, dated August 19, 2022, and effective September 15, 2022, is amended as follows:

Paragraph 4000 Subpart C—Class C Airspace.

* * * * *

ASO TN C Nashville, TN [Amended]

Nashville International Airport, TN

(Lat. 36°07′28″ N, long. 86°40′41″ W)

Smyrna Airport, TN

(Lat. 36°00′32″ N, long. 86°31′12″ W)

That airspace extending upward from the surface to 6,000 feet MSL within a 5-mile radius of Nashville International Airport; and that airspace extending upward from the surface to 6,000 feet MSL within a 7-mile radius of Nashville International Airport from the 335° bearing from the airport clockwise to the 230° bearing from the airport, excluding that portion within the Smyrna Airport, TN, Class D airspace area; and that airspace extending upward from 1,800 feet MSL to 6,000 feet MSL within a 15-mile radius of Nashville International Airport from the 335° bearing from the airport clockwise to the 060° bearing from the airport; and that airspace extending upward from 2,400 feet MSL to 6,000 feet MSL within a 15-mile radius of the airport from the 060° bearing from the airport clockwise to the 155° bearing from the airport, excluding that portion within the Smyrna Airport, TN, Class D airspace area; and that airspace extending upward from 1,800 feet MSL to 6,000 feet MSL within a 15-mile radius of Nashville International Airport from the 155° bearing from the airport clockwise to the 230° bearing from the airport; and that airspace extending upward from 2,400 feet MSL to 6,000 feet MSL within a 15-mile radius of Nashville International Airport from the 230° bearing from the airport clockwise to the 335° bearing from the airport.

* * * * *

Paragraph 5000 Subpart D—Class D Airspace.

* * * * *

ASO TN D Nashville, TN [Amended]

John C. Tune Airport, TN

(Lat. 36°10′59″ N, long. 86°53′11″ W)

That airspace upward from the surface to but not including 2,400 feet MSL within a 4.1-mile radius of John C. Tune Airport, and within 1.2-miles each side of the 195° bearing from the airport, extending from the 4.1-mile radius to 6.1-miles south of the airport, and within 1.2-miles each side of the 015° bearing from the airport, extending from the 4.1-mile radius to 6.1-miles north of the airport. This Class D airspace area is effective during the specific dates and times established in advance by a Notice to Air Missions. The effective dates and times will thereafter be continuously published in the Chart Supplement.

BILLING CODE 4910-13-P

* * * * *

Issued in Washington, DC, on May 31, 2023.
Brian Konie,
Acting Manager, Airspace Rules and Regulations.

[FR Doc. 2023-11909 Filed 6-5-23; 8:45 am]

BILLING CODE 4910-13-C